ENVIRONMENTAL PROTECTION AGENCY

40 CFR Part 180

[EPA-HQ-OPP-2010-0421; FRL-9355-6]

Fluxapyroxad; Pesticide Tolerances Technical Amendment

AGENCY: Environmental Protection Agency (EPA).

ACTION: Final rule; technical amendment.

SUMMARY: EPA issued a final rule in the Federal Register of May 14, 2012, concerning the establishment of pesticide tolerances for the new fungicide active ingredient fluxapyroxad. Inadvertently, the terminology for the oilseed crop group and for dried plums was incorrect. This technical amendment is being issued to correct the terminology.

DATES: This final rule is effective August 3, 2012.

ADDRESSES: The docket for this action, identified by docket identification (ID) number EPA-HQ-OPP-2010-0421; FRL-9355-6, is available either electronically through http://www.regulations.gov or in hard copy at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Olga Odiott, Registration Division (7505P), Office of Pesticide Programs, Environmental Protection Agency, 1200 Pennsylvania Ave. NW., Washington, DC 20460-0001; telephone number: (703) 308-9369; email address: odiott.olga@epa.gov.

SUPPLEMENTARY INFORMATION:

I. Does this action apply to me?

The Agency included in the final rule a list of those who may be potentially affected by this action. If you have questions regarding the applicability of this action to a particular entity, consult the person listed under FOR FURTHER INFORMATION CONTACT.

II. What does this technical correction do?

In the Federal Register of May 14, 2012 (77 FR 28270) (FRL-9346-7), EPA issued a final rule establishing tolerances for the new fungicide active ingredient fluxapyroxad (40 CFR 180.666) in or on various commodities. Inadvertently, the commodity terminology for the oilseed crop group and for dried plums was incorrectly expressed. This document is being issued to correct the terminology for these commodities.

III. Why is this correction issued as a final rule?

Section 553 of the Administrative Procedure Act (APA), 5 U.S.C. 553(b)(3)(B), provides that, when an Agency for good cause finds that notice and public procedure are impracticable, unnecessary or contrary to the public interest, the Agency may issue a final rule without providing notice and an opportunity for public comment. EPA has determined that there is good cause for making this technical amendment final without prior proposal and opportunity for comment, because this technical amendment only revises the terminology of two (2) commodities, with no other related changes to tolerance levels or any requirements of the final rule. EPA finds that this constitutes good cause under 5 U.S.C. 553(b)(3)(B).

IV. Do any of the statutory and Executive Order reviews apply to this action?

This technical amendment only revises the terminology of two commodities and does not otherwise change the original requirements of the final rule. As a technical amendment, this action is not subject to the statutory and Executive Order review requirements. For information about the statutory and Executive Order review requirements as they relate to the final rule, see Unit VI. in the Federal Register of May 14, 2012 (77 FR 28270) (FRL-9346-7).

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Agricultural commodities, Pesticides and pest.

Dated: July 23, 2012.
Lois Rossi,
Director, Registration Division, Office of Pesticide Programs.

Therefore, 40 CFR part 180 is amended as follows:

PART 180—[AMENDED]

1. The authority citation for part 180 continues to read as follows:

Authority: 21 U.S.C. 321(q), 346a and 371.

2. In § 180.666, by removing the entries for “Oilseeds, group 20” and “Plum, prune” and adding in their place entries for “Oilseeds, group 20 (except cottonseed)” and “Plum, prune, dried” in the table to paragraph (a) to read as follows:

§ 180.666 Fluxapyroxad; tolerances for residues.

(a) * * *

Commodity | Parts per million
* * * * *
Oilseeds, group 20 (except cottonseed) | 0.9
* * * * *
Plum, prune, dried | 3.0
* * * * *

* * * * *

[FR Doc. 2012-18507 Filed 8-2-12; 8:45 am]

BILLING CODE 6560-50-P